FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Procedures for Monitoring Bank Secrecy Act Compliance; (2) application for waiver of prohibition on acceptance of brokered deposits by adequately capitalized insured depository institutions; (3) notice of branch closure; (4) real estate lending standards; and (5) foreign branching and investment by insured state nonmember banks.

DATES: Comments must be submitted on or before August 13, 2001.

ADDRESSES: Interested parties are invited to submit written comments to Tamara R. Manly, Management Analyst (Regulatory Analysis), (202) 898-7453, Office of the Executive Secretary, Room F-4058, Attention: Comments/OES, Federal Deposit Insurance Corporation, 550 17th Street NW., Washington, DC 20429. All comments should refer to the OMB control number. Comments may be hand-delivered to the guard station at the rear of the 17th Street Building (located on F Street), on business days between 7 a.m. and 5 p.m. [FAX number (202) 898-3838; Internet address: comments @ fdic.gov].

A copy of the comments may also be submitted to the OMB desk officer for the FDIC: Alexander Hunt, Office of Information and Regulatory Affairs, Office of Management and Budget, New Executive Office Building, Room 3208, Washington, DC 20503.

FOR FURTHER INFORMATION CONTACT: Tamara R. Manly, at the address identified above.

SUPPLEMENTARY INFORMATION: Proposal to renew the following currently approved collections of information:

1. Title: Procedures for Monitoring Bank Secrecy Act Compliance.

OMB Number: 3064-0087.

Frequency of Response: On occasion.

Affected Public: Any financial institution complying with the requirements of the Bank Secrecy Act.

Estimated Number of Respondents: 5,600.

Estimated Time per Response: .5 hours.

Total Annual Burden: 2,800 hours.

General Description of Collection: 12 CFR 326 requires all insured nonmember banks to establish and maintain procedures designed to assure and monitor their compliance with the requirements of the Bank Secrecy Act and the implementing regulations promulgated thereunder by the Department of Treasury at 31 CFR 103.

2. Title: Application for Waiver of Prohibition on Acceptance of Brokered Deposits by Adequately Capitalized Insured Depository Institutions.

OMB Number: 3064-0099.

Frequency of Response: On occasion.

Affected Public: Any insured depository institution seeking a waiver to the prohibition on the acceptance of brokered deposits.

Estimated Number of Respondents: 25.

Estimated Time per Response: 6 hours.

Total Annual Burden: 150 hours.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction.

3. Title: Notice of Branch Closure.

OMB Number: 3064-0109.

Frequency of Response: As needed.

Affected Public: Any financial institution that proposes to close a branch.

Estimated Number of Respondents: 1,364 (1,314 notice; 50 adoption).

Estimated Time per Response: 1,314—2 hours; 50—8 hours.

Total Annual Burden: 3,028 hours.

General Description of Collection: Section 42 of the Federal Deposit Insurance Act mandates that an institution that proposes to close a branch notify its primary Federal regulator no later than 90 days prior to the closing. Each insured depository institution is required to adopt policies for branch closings.

4. Title: Real Estate Lending Standards.

OMB Number: 3064-0112.

Frequency of Response: As needed.

Affected Public: Any financial institution engaging in real estate lending.

Estimated Number of Respondents: 5,600.

Estimated Time per Response: 20 hours.

Total Annual Burden: 112,000 hours.

General Description of Collection: Institutions will use real estate lending policies to guide their lending operations in a manner that is consistent with safe and sound banking practices and appropriate to their size, nature and scope of their operations. These policies should address certain lending considerations, including loan-to-value limits, loan administration policies, portfolio diversification standards, and documentation, approval and reporting requirements.

5. Title: Foreign Branching and Investment by Insured State Nonmember Banks.

OMB Number: 3064-0125.

Frequency of Response: As needed.

Affected Public: Any financial institution dealing in foreign banking.

Estimated Number of Respondents: 73.

Estimated Time per Response: Varies.

Estimated Total Annual Burden: 22,298 hours.

General Description of Collection: Section 18(d)(2) of the Federal Deposit Insurance Act, requires a nonmember bank to obtain the FDIC's consent to establish or operate a branch in a foreign country and authorizes the FDIC to impose conditions and issue regulations governing foreign branches of nonmember banks. Section 18(l) requires a nonmember bank to obtain the FDIC's consent to acquire and hold, directly or indirectly, stock or other evidences of ownership in any foreign bank or other entity.

Request for Comment

Comments are invited on: (a) Whether these collections of information are necessary for the proper performance of the FDIC's functions, including whether the information has practical utility; (b) the accuracy of the estimates of the burden of these information collections, including the validity of the methodologies and assumptions used; (c) ways to enhance the quality, utility, and clarity of the information to be collected; and (d) ways to minimize the burden of the information collections on respondents, including through the use of automated collection techniques or other forms of information technology.

At the end of the comment period, the comments and recommendations received will be analyzed to determine the extent to which the collections should be modified prior to submission to OMB for review and approval. Comments submitted in response to this notice also will be summarized or included in the FDIC's requests to OMB for renewal of these collections. All comments will become a matter of public record.

Dated at Washington, DC, this 6th day of June, 2001.
Federal Deposit Insurance Corporation.
Robert E. Feldman,
Executive Secretary.

[FR Doc. 01-14730 Filed 6-11-01; 8:45 am]

BILLING CODE 6714-01-P